ENVIRONMENTAL PROTECTION AGENCY

[FRL-8185-2]

Gulf of Mexico Program Citizens Advisory Committee Meeting

AGENCY: Environmental Protection Agency (EPA).

ACTION: Notice of meeting.

SUMMARY: Under the Federal Advisory Committee Act (Pub. L. 92-463), EPA gives notice of a meeting of the Gulf of Mexico Program (GMP) Citizens Advisory Committee (CAC).

For information on access or services for individuals with disabilities, please contact Gloria Car, U.S. EPA, at (228) 688-2421 or car.gloria@epa.gov. To request accommodation of a disability, please contact Gloria Car, preferably at least 10 days prior to the meeting, to give EPA as much time as possible to process your request.

DATES: The meeting will be held in conjunction with the Gulf of Mexico Alliance Implementation Workshop and the Gulf of Mexico Program Management Committee on Tuesday, July 18, 2006, from 8 a.m. to 5 p.m.; Wednesday, July 19, 2006, from 8 a.m. to 5 p.m., and Thursday, July 20, 2006, from 8:30 a.m. to 4 p.m.

ADDRESSES: The meeting will be held at the Intercontinental New Orleans Hotel, 444 St. Charles Avenue, New Orleans, LA 70130, 504-525-5566. http://www.ichotelsgroup.com.

FOR FURTHER INFORMATION CONTACT: Gloria D. Car, Designated Federal Officer, Gulf of Mexico Program Office, Mail Code EPA/GMPO, Stennis Space Center, MS 39529-6000 at (228) 688-2421.

SUPPLEMENTARY INFORMATION: The proposed agenda includes the following topics: Gulf Alliance Updates, Ongoing Implementation Activities; Implementation Breakout Groups: Water Quality, Restoration, Education, Habitat ID, Nutrients; Implementation Tracking System; Management Committee discussions on Gulf of Mexico Program role with Gulf Alliance, Federal Workgroup, and Regional Collaboration.

The meeting is open to the public.

Dated: June 9, 2006.
Gloria D. Car,
Designated Federal Officer.

[FR Doc. E6-9573 Filed 6-16-06; 8:45 am]

BILLING CODE 6560-50-P